DEPARTMENT OF TRANSPORTATION

Federal Aviation Administration

14 CFR Part 71

[Airspace Docket No. 97-AWA-1]

RIN 2120-AA66

Modification of the San Francisco Class B Airspace Area; CA; Correction

AGENCY: Federal Aviation Administration (FAA), DOT.

ACTION: Final rule; correction.

SUMMARY: This action corrects a final rule published in the Federal Register on June 7, 2000 (65 FR 36060). In that rule, the legal description of the San Francisco, CA, Class B airspace, Area E, contained an inadvertent error that failed to exclude airspace within the Travis Air Force (AFB) approach control area. This action corrects that error.

EFFECTIVE DATE: October 11, 2000.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On June 7, 2000, Airspace Docket No. 97-AWA-1, FR Doc. 00-14046, was published amending the legal description of the San Francisco, CA, Class B airspace area. This rule included a legal description of the San Francisco, CA, Area E airspace that included a small area within the Travis AFB approach control area, which should have been omitted. This action excludes that airspace from the San Francisco Class B airspace area, thereby correcting this error.

Correction to Final Rule

Accordingly, pursuant to the authority delegated to me, the legal description for the San Francisco, CA, Class B airspace, Area E, as published in the Federal Register on June 7, 2000 (65 FR 36060); FR Doc. 00-14046, and incorporated by reference in 14 CFR 71.1, is corrected as follows:

§ 71.1 [Corrected]

On page 36064, in column 3, in the legal description of the San Francisco, CA, Class B airspace, correct Area E to read as follows:

Paragraph 3000—Subpart B—Class B Airspace

* * * * *

AWP CA B San Francisco, CA

* * * * *

Boundaries.

* * * * *

Area E. That airspace extending upward from 6,000 feet MSL to and including 10,000 feet MSL bounded by a line beginning at the 15-mile DME point on the SFO VOR/DME 277° radial thence counterclockwise along the 15-mile DME arc of the SFO VOR/DME to and southeast along the SFO VOR/DME 167° radial to and counterclockwise along the 20-mile DME arc of the SFO VOR/DME to and northeast along the Sausalito VORTAC 052° radial, to and clockwise along the 25-mile DME arc of the SFO VOR/DME to and northeast along the SFO VOR/DME 227° radial to and clockwise along the 20-mile DME arc to and northeast along the SFO VOR/DME 277° radial to the point of beginning, excluding the airspace north of lat 38°00′00″ .

* * * * *

Issued in Washington, DC, on September 27, 2000.
Reginald C. Matthews,
Manager, Airspace and Rules Division.

[FR Doc. 00-25643 Filed 10-10-00; 8:45 am]

BILLING CODE 4910-13-P